DEPARTMENT OF COMMERCE

National Institute of Standards and Technology

Announcement of the American Petroleum Institute's Standards Activities

AGENCY: National Institute of Standards and Technology, Commerce.

ACTION: Notice of intent to develop or revise standards and request for public comment and participation in standards development.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 682-8000, http://www.api.org.

FOR FURTHER INFORMATION CONTACT: All contact individuals listed in the SUPPLEMENTARY INFORMATION section of this notice may be reached at the American Petroleum Institute.

SUPPLEMENTARY INFORMATION:

Background

The American Petroleum Institute develops and publishes voluntary standards for equipment, materials, operations, and processes for the petroleum and natural gas industry. These standards are used by both private industry and by governmental agencies. All interested persons should contact the appropriate source as listed for further information.

Pipeline Committee

1165, 1st Edition: SCADA Display Standard.

1110, 5th Edition: Pressure Testing of Liquid Petroleum Pipelines.

1113, 4th Edition: Developing a Pipeline Supervisory Control Center.

FOR FURTHER INFORMATION CONTACT: Andrea Johnson, Standards Department, e-mail: johnsona@api.org.

Committee on Marketing

1631, 6th Edition: Interior Lining and Periodic Inspection of Underground Storage Tanks.

1637, 3rd Edition: Using the API Color-Symbol System to Mark Equipment and Vehicles for Product Identification at Service Stations and Distribution Terminals.

1646, 1st Edition: Safety Practices for Service Station Contractors.

16xx, 1st Edition: Recommended Practice for Tank Truck Handling of ULSD.

FOR FURTHER INFORMATION CONTACT: David Soffrin, Standards Department, e-mail: soffrind@api.org.

Committee on Refining

Inspection

510, 9th Edition: Pressure Vessel Inspection Code: Maintenance Inspection, Rating, Repair, and Alteration.

Pressure Vessel and Tanks

650, 11th Edition: Welded Steel Tanks for Oil Storage.

653, 4th Edition: Tank Inspection, Repair, Alteration, and Reconstruction.

Electrical Equipment

500, 3rd Edition: Recommended Practice for Classification of Locations for Electrical Installations at Petroleum Facilities as Classified as Class I, Division 1 and Division 2.

505, 2nd Edition: Recommended Practice for Classification of Locations for Electrical Installations at Petroleum Facilities Classified as Class I, Zone 0, Zone 1 and Zone 2.

Mechanical Equipment

618, 5th Edition: Reciprocating Compressors for Petroleum, Chemical and Gas Industry Services.

674, 3rd Edition: Positive Displacement Pumps—Reciprocating.

677, 3rd Edition: General-purpose Gear Units for Petroleum, Chemical and Gas Industry Services.

Heat Transfer Equipment

535, 2nd Edition: Burners for Fired Heaters in General Refinery Services.

537, 2nd Edition: Flare details for General Refinery and Petrochemical Service.

Piping & Valves

622, 1st Edition: Type Testing of Process Valve Packing for Fugitive Emissions.

Pressure Relieving Systems

521, 5th Edition: Guide for Pressure-relieving and Depressuring Systems.

Instrument & Control Systems

554, 2nd Edition: Process Instrumentation and Control.

557, 2nd Edition: Guide to Advanced Control Systems.

FOR FURTHER INFORMATON CONTACT: David Soffrin, Standards Department, e-mail: soffrind@api.org.

Meetings/Conferences: The Spring Refining Meeting will be held in Dallas, Texas, May 1-3, 2006. The Fall Refining Meeting will be held in San Francisco, California, October 30-November 1, 2006. Interested parties may visit the API Web site at http://www.api.org/events for more information regarding participation in these meetings.

Committee on Safety and Fire Protection

2203, 7th Edition: Protection Against Ignitions Arising Out of Static, Lightning, and Stray Currents 2026, 3rd Edition: Safe Access/Egress Involving Floating Roofs of Storage Tanks in Petroleum Service.

2207, 6th Edition: Preparing Tank Bottoms for Hot Work.

2510A, 3rd Edition: Fire Protection Considerations for the Design and Operation of Liquefied Petroleum Gas (LPG) Storage Facilities.

2021, 5th Edition: Management of Atmospheric Storage Tank Fires.

Potential Safety and Fire Protection Reaffirmations

2023, 3rd Edition: Guide for Safe Storage and Handling of Heated Petroleum-Derived Asphalt Products and Crude-Oil Residua.

2210, 4th Edition: Flame Arresters for Vents of Tanks Storing Petroleum Products.

2218, 3rd Edition: Fireproofing Practices in Petroleum and Petrochemical Processing Plants.

2015, 7th Edition: Requirements for Safe Entry and Cleaning of Petroleum Storage Tanks.

FOR FURTHER INFORMATION CONTACT: For further information contact: David Soffrin, Standards Department, e-mail: soffrind@api.org.

Committee on Petroleum Measurement

Manual of Petroleum Measurement Standards

Liquid Measurement

Chapter 2.2E (ISO 12917-1:2000), 2nd Edition: Calibration of Horizontal Cylindrical Tanks—Part 1: Manual Methods

Chapter 2.2F (ISO 12917-2:2000), 2nd Edition: Calibration of Horizontal Cylindrical Tanks—Part 2: Internal Electro-Optical Distance-Ranging Method

Chapter 4.5, 3rd Edition: Master-meter Provers

Chapter 4.7, 3rd Edition: Field-Standard Test Measures

Chapter 4.8, 2nd Edition: Operation of Proving Systems

Chapter 4.9.4, 1st Edition: Determination of the Volume of Displacement and Tank Provers by the Gravimetric Method of Calibration

Chapter 5.1, 4th Edition: General Consideration for Measurement by Meters

Chapter 6.1, 3rd Edition: Lease Automatic Custody Transfer (LACT) Systems

Chapter 6.4, 2nd Edition: Metering Systems for Aviation Fueling Facilities

Measurement Quality

Chapter 10.7/D4377, 3rd Edition: Standard Test method for Water in Crude Oils by Potentiometric Karl Fischer Titration

Chapter 11.2.4/GPA TP-27, 1st Edition: Temperature Correction for NGL & LPG—Tables 23E, 24E, 53E, 54E, 59E, 60E

Chapter 11.2.5/GPA TP-15, 1st Edition: A Simplified Vapor Pressure Correlation for Commercial NGLs

Gas Fluids Measurement

Chapter 5.9, 1st Edition: Vortex Shedding Flowmeters for Custody Transfer—Joint with Liquid Measurement

Chapter 14.1, 6th Edition: Collecting and Handling of Natural Gas Samples for Custody Transfer

Chapter 14.10, 1st Edition: Flare Gas Meter

Measurement Accountability

Chapter 17.10, 1st Edition: Measurement of Refrigerated and Pressurized Cargo on Marine Tank Vessels

Spanish Translations of Measurement Accountability Standards

Chapter 17.2 Measurement of Cargoes on Board Tank Vessels

Evaporative Loss Estimation

Publication 2514A, 3rd Edition: Atmospheric Hydrocarbon Emissions from Marine Vessel Transfer Operations

Potential Reaffirmations of Committee on Petroleum Measurement Standards

Gas Fluids Measurement

Chapter 14.3.2/AGA Report No. 3/GPA 8185-00 Part 2, 4th Edition: Specification and Installation Requirement—Concentric—Square-edged Orifice Meters

Chapter 14.3.4/GPA 8173-91, 3rd Edition: Background, Development, Implementation Procedures and Subroutine Documentation—need errata in relation to the updated 14.3.1

Chapter 14.2/AGA Report NO. 8/GPA 8185-90, 2nd Edition: Compressibility Factors of Natural Gas and Other Related Hydrocarbon Gases

Chapter 14.4/GPA 8173-91, 1st Edition: Converting Mass of Natural Gas Liquids and Vapors to Equivalent Liquid Volumes

Chapter 14.6, 2nd Edition: Continuous Density Measurement

Chapter 14.7/GPA 8182-95, 2nd Edition: Mass Measurement of Natural Gas Liquids

Chapter 14.8, 2nd Edition: Liquefied Petroleum Gas Measurement—with errata

Liquid Measurement

Standard 2552, 1st Edition: Measurement and Calibration of Spheres and Spheroids

Chapter 3.2, 1st Edition: Tank Gauging—Gauging Petroleum and Petroleum Products in Tank Cars

Chapter 3.4, 1st Edition: Standard Practice for Level Measurement of Liquid Hydrocarbons on Marine Vessels by Automatic Tank Gauging

Chapter 12.3, 1st Edition: Calculation of Volumetric Shrinkage from Blending Light Hydrocarbons with Crude Oil

Chapter 13.1, 1st Edition: Statistical Concepts and Procedures in Measurement

Chapter 13.2, 1st Edition: Statistical Methods of Evaluating Meter Proving Data

Chapter 21.2A—Addendum 1 to Flow Measurement—Electronic Liquid Measurement—will be incorporated into 21.1 when that standard is revised

Measurement Quality

Chapter 8.1, 3rd Edition: Manual Sampling of Petroleum and Petroleum Products

Evaporative Loss Estimation

Chapter 19.1A: Evaporation loss from Low-pressure Tanks (Previously Bulletin 2516)

FOR FURTHER INFORMATION CONTACT: Andrea Johnson, Standards Department, e-mail: johnsona@api.org.

Meetings/Conferences: The Spring Committee on Petroleum Measurement meeting will be held in Dallas, Texas, March 20-24, 2006. The Fall Committee on Petroleum Measurement meeting will be held in Denver, Colorado, October 9-12, 2006. Interested parties may visit the API Web site at http://www.api.org/events for more information regarding participation in these meetings.

Committee on Exploration and Production

Production Equipment

RP 6DR, 1st Edition: Repair and Remanufacture of Pipeline Valves.

Spec 6DSS, 1st Edition (National Adoption of ISO 14723): Subsea Pipeline Valves. SC6 Technical Report Metallic material limits for wellhead equipment used in high temperature applications for API 6A and 17D applications.

Spec 14H, 5th Edition: Installation Maintenance and Repair of Surface Safety Valves and Underwater Safety Valves Offshore, 5th Ed.

Oil Country Tubular Goods

RP 5C8 1st Edition: Inspection, Care, and Maintenance of Coiled Tubular Product.

5LCP 2nd Edition: Specification on Coiled Line Pipe.

7-1 1st Edition (National Adoption of 10424-1): Rotary drilling equipment—Part 1: Rotary drill stem elements (spec 7)

7NRV 1st Edition Spec on Non-return Valves

RP 15S, 1st Edition: Qualification of Spoolable Reinforced Plastic Line Pipe

Offshore Structures, Drill Through Equipment, and Subsea Production Equipment

2FB, 1st Edition: Design of Offshore Facilities against Fire and Blast Loading

2H, 9th Edition: Spec 2H, Carbon Manganese Steel Plate for Offshore Platform Tubular Joints

2SK, Addendum/Bulletin on MODU Mooring Design

2T, 3rd Edition: Planning, Designing and Constructing Tension Leg Platforms

2W, 5th Edition: Steel Plates for Offshore Structures, Produced by Thermo-Mechanical Control Processing (TMCP).

2Y, 5th Edition: Steel Plates, Quenched-and-Tempered, for Offshore Structures.

RP 17A (National Adoption of ISO 13628-1), 4th Edition: Design and Operation of Subsea Production Systems.

Spec 17F (National Adoption of ISO 13628-6), 2nd Edition: Subsea Production Control Systems (ISO FDIS expected by Jan 2006).

RP 17G (National Adoption of ISO 13628-7), 2nd Edition: Design & Operation of Completion/Workover Riser Systems (API ballot closes Jan '06).

Drilling Operations and Equipment

4F, 3rd Edition (National Adoption of 13626): Drilling and production equipment—Drilling and well-servicing structures.

Spec 11AX: Subsurface Sucker Rod Pumps and Fittings.

May be a new edition or just an addendum.

13D, 5th Edition: Recommended Practice on Drilling Fluids Processing Systems Evaluation.

13N 1st Edition (National Adoption of 13504-4): Procedures for measuring gravelpack leakoff under static conditions.

16C, 2nd Edition: Choke and Kill Systems.

19B, 2nd Edition: Evaluation of Well Perforators.

Potential Reaffirmations of Committee on Exploration & Production Standards

Spec 2MT1, As-Rolled Carbon Manganese Steel Plate With Improved Toughness for Offshore Structures, Second Edition, September 2001.

RP 2N, Planning, Designing, and Constructing Structures and Pipelines for Arctic Conditions, Second Edition, December 1995, Reaffirmed: January 2001.

Bull 2S, Design of Windlass Wildcats for Floating Offshore Structures, Second Edition, November 1995, Reaffirmed: January 2001.

RP 2SM, Recommended Practice for Design, Manufacture, Installation, and maintenance of Synthetic Fiber Ropes for Offshore Mooring, First Edition, March 2001.

Spec 5D, Specification for Drill Pipe, 5th edition, October 2001.

TR 6AF1, Temperature Derating of API Flanges Under Combination of Load, 2nd edition, Nov. 1998.

TR 6AF2, Capabilities of API Integral Flanges Under Combination of Load, 2nd edition, Apr. 1999.

Spec 6H, End Closures, Connectors, and Swivels, 2nd edition, May 1998.

TR (Bull) 6J, Testing of Oilfield Elastomers (A Tutorial), 2nd edition, Reaffirmed Jan. 2000.

TR 6J1, Elastomer Life Estimation Testing Procedures, 1st edition, Aug. 2000.

TR 6F1, Performance of API and ANSI End Connectors in a Fire Test According to API. Specification 6FA, 3rd edition, Apr. 1999.

TR 6F2, Fire Resistance Improvements for API Flanges, 3rd edition, Apr. 1999.

Spec 6FA, Fire Test for Valves, 3rd edition, Apr. 1999.

Spec 6FB, Fire Test for End Connectors, 3rd edition, May 1998.

Spec 6FC, Fire Test for Valves with Automatic Backseats, 3rd edition, Apr. 1999.

RP 13K, Chemical Analysis of Barite, 2nd Edition, February 1996, Reaffirmed November 2001.

FOR FURTHER INFORMATION CONTACT: Andy Radford, Standards Department, e-mail: radforda@api.org.

Meetings/Conferences: The 2006 Summer Standardization Conference on Oilfield Equipment & Materials will take place in Atlanta, Georgia, June 12-16, 2006. Interested parties may visit the API Web site at http://www.api.org/events for more information regarding participation in this meeting.

Executive Committee on Drilling and Production Operations

RP 65—Part 2, 1st Edition: Isolating Potential Flow Zones in Well Drilling and Cementing Operations.

RP 67, 2nd Edition: Oilfield Explosive Safety.

RP 90, 1st Edition: Annular Casing Pressure Management for Offshore Wells.

FOR FURTHER INFORMATION CONTACT: Tim Sampson, Upstream Department, e-mail: sampson@api.org.

For additional information on the overall API standards program, contact: David Miller, Standards Department, e-mail: miller@api.org.

Dated: March 3, 2006.
William Jeffrey,
Director.

[FR Doc. E6-3519 Filed 3-10-06; 8:45 am]

BILLING CODE 3510-13-P